DEPARTMENT OF TRANSPORTATION

Federal Aviation Administration

14 CFR Part 39

[Docket No. FAA-2015-1744; Directorate Identifier 2015-CE-016-AD; Amendment 39-18231; AD 2015-16-06]

RIN 2120-AA64

Airworthiness Directives; British Aerospace Regional Aircraft Airplanes

AGENCY: Federal Aviation Administration (FAA), Department of Transportation (DOT).

ACTION: Final rule.

SUMMARY: We are adopting a new airworthiness directive (AD) for British Aerospace Regional Aircraft Model Jetstream Model 3201 airplanes. This AD results from mandatory continuing airworthiness information (MCAI) issued by an aviation authority of another country to identify and correct an unsafe condition on an aviation product. The MCAI describes the unsafe condition as the in-service special detailed inspection technique required for the Jetstream 3200's life extension program was delayed; consequently, the in-service special detailed inspection technique is not formally part of the life extension program and may therefore not be accomplished as intended. We are issuing this AD to require actions to address the unsafe condition on these products.

DATES: This AD is effective September 21, 2015.

The Director of the Federal Register approved the incorporation by reference of a certain publication listed in the AD as of September 21, 2015.

ADDRESSES: You may examine the AD docket on the Internet at http://www.regulations.gov by searching for and locating Docket No. FAA-2015-1744; or in person at Document Management Facility, U.S. Department of Transportation, Docket Operations, M-30, West Building Ground Floor, Room W12-140, 1200 New Jersey Avenue SE., Washington, DC 20590.

For service information identified in this AD, contact BAE Systems (Operations) Limited, Customer Information Department, Prestwick International Airport, Ayrshire, KA9 2RW, Scotland, United Kingdom; telephone: +44 1292 675207; fax: +44 1292 675704; email: RApublications@baesystems.com; Internet: http://www.baesystems.com/Businesses/RegionalAircraft/. You may review this referenced service information at the FAA, Small Airplane Directorate, 901 Locust, Kansas City, Missouri 64106. You may view this referenced service information at the FAA, Small Airplane Directorate, 901 Locust, Kansas City, Missouri 64106. For information on the availability of this material at the FAA, call (816) 329-4148. It is also available on the Internet at http://www.regulations.gov by searching for Docket No. FAA-2015-1744.

FOR FURTHER INFORMATION CONTACT: Doug Rudolph, Aerospace Engineer, FAA, Small Airplane Directorate, 901 Locust, Room 301, Kansas City, Missouri 64106; telephone: (816) 329-4059; fax: (816) 329-4090; email: doug.rudolph@faa.gov.

SUPPLEMENTARY INFORMATION:

Discussion

We issued a notice of proposed rulemaking (NPRM) to amend 14 CFR part 39 to adding an AD that would apply to British Aerospace Regional Aircraft Model Jetstream Model 3201 airplanes. The NPRM was published in the Federal Register on May 26, 2015 (80 FR 29988). The NPRM proposed to correct an unsafe condition for the specified products and was based on mandatory continuing airworthiness information (MCAI) originated by an aviation authority of another country. The MCAI states:

The Jetstream 3200 Life Extension Programme (LEP) permits the airframe life limit to be extended from 45 000 flight cycles (FC) to 67 000 FC. Entry into the LEP requires operators to accomplish inspections specified in the Jetstream 3200 Supplemental Structural Inspections Document (SSID). SSID task 57-10-227 is the inspection requirement for the wing main spar at Rib 36. The threshold for task 57-10-227 is 48 000 FC, with a repeat interval of 16 800 FC, using a Special Detailed Inspection (SDI). Development of the in-service SDI technique required for SSID task 57-10-227 was delayed by BAE Systems (Operations) Ltd, as a result of which it is not formally part of the LEP and may therefore not be accomplished as intended.

This condition, if not corrected, could lead to cracks in the wing main spar remaining undetected, possibly resulting in failure of the wing and loss of the aeroplane.

To address this potential unsafe condition, BAE Systems (Operations) Ltd issued SB 57-JA140140 to provide SDI instructions for the wing main spar at Rib 36, which includes a reduced repeat inspection interval.

For the reasons described above, this AD requires repetitive inspections of the wing main spar around Rib 36 to detect cracks and, depending on findings, accomplishment of the applicable corrective action(s).

The SSID will be revised in due course to include the SDI. The MCAI can be found in the AD docket on the Internet at: http://www.regulations.gov/#!documentDetail;D=FAA-2015-1744-0002.

Comments

We gave the public the opportunity to participate in developing this AD. We received no comments on the NPRM (80 FR 29988, May 26, 2015) or on the determination of the cost to the public.

Conclusion

We reviewed the relevant data and determined that air safety and the public interest require adopting the AD as proposed except for minor editorial changes. We have determined that these minor changes:

• Are consistent with the intent that was proposed in the NPRM (80 FR 29988, May 26, 2015) for correcting the unsafe condition; and

• Do not add any additional burden upon the public than was already proposed in the NPRM (80 FR 29988, May 26, 2015).

Related Service Information Under 1 CFR Part 51

We reviewed British Aerospace Regional Aircraft British Aerospace Jetstream Series 3100 & 3200 Service Bulletin 57-JA140140, Original Issue, dated: June 26, 2014. The service information describes procedures for inspections of the wing main spar around Rib 36 to detect cracks and, depending on findings, accomplishment of the applicable corrective action(s). This service information is reasonably available because the interested parties have access to it through their normal course of business or by the means identified in the ADDRESSES section of this AD.

Costs of Compliance

We estimate that this AD will affect 22 products of U.S. registry. We also estimate that it will take about 96 work-hours per product to comply with the basic requirements of this AD. The average labor rate is $85 per work-hour.

Based on these figures, we estimate the cost of the AD on U.S. operators to be $179,520, or $8,160 per product.

We have no way of determining any necessary follow-on actions, costs, or the number of products that may need these actions.

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to the FAA at 800 Independence Ave. SW., Washington, DC 20591. ATTN: Information Collection Clearance Officer, AES-200.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

Examining the AD Docket

You may examine the AD docket on the Internet at http://www.regulations.gov by searching for and locating Docket No. FAA-2015-1744; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2015-16-06 British Aerospace Regional Aircraft: Amendment 39-18231; Docket No. FAA-2015-1744; Directorate Identifier 2015-CE-016-AD.

(a) Effective Date

This airworthiness directive (AD) becomes effective September 21, 2015.

(b) Affected ADs

None.

(c) Applicability

This AD applies to British Aerospace Regional Aircraft Jetstream Model 3201 airplanes, all serial numbers, that are:

(1) Certificated in any category; and

(2) Modified in service following BAE Systems (Operations) Ltd Service Bulletin (SB) 05- JM8229.

(d) Subject

Air Transport Association of America (ATA) Code 57: Wings.

(e) Reason

This AD was prompted by mandatory continuing airworthiness information (MCAI) originated by an aviation authority of another country to identify and correct an unsafe condition on an aviation product. The MCAI describes the unsafe condition as the in-service special detailed inspection technique required for the Jetstream 3200's life extension program was delayed; consequently, the in-service special detailed inspection (SDI) technique is not formally part of the life extension program and may therefore not be accomplished as intended. We are issuing this AD to detect and correct cracking in the wing main spar, which could result in structural failure of the wing with consequent loss of control.

(f) Actions and Compliance

Unless already done, do the following actions as specified in paragraphs (f)(1) through (f)(3) of this AD:

(1) Before accumulating a total of 53,950 flight cycles (FC) on the airplane or within the next 50 FC after September 21, 2015 (the effective date of this AD), whichever occurs later, and repetitively thereafter at intervals not to exceed 14,300 FC, accomplish an eddy current (EC) and an x-ray inspection of the wing main spar around rib 36 following the instructions of British Aerospace Jetstream Series 3100 & 3200 Service Bulletin 57-JA140140, Original Issue, dated June 26, 2014. For the purposes of this AD, owner/operators who do not track total FC must multiply the total number of airplane hours time-in-service (TIS) by 0.75 to calculate the cycles.

(2) If any crack or corrosion is found during any inspection required by paragraph (f)(1) of this AD, before further flight, contact BAE Systems (Operations) Ltd for FAA-approved repair instructions approved specifically for this AD and accomplish those instructions. You can find contact information for BAE Systems (Operations) Ltd in paragraph (i)(3) of this AD. Use the Operator Report Form and follow the instructions in British Aerospace Jetstream Series 3100 & 3200 Service Bulletin 57-JA140140, Original Issue, dated: June 26, 2014.

(3) Repair of an airplane as required in paragraph (f)(2) of this AD does not terminate the repetitive inspections required in paragraph (f)(1) of this AD for that airplane, unless the approved repair instructions state otherwise.

(g) Other FAA AD Provisions

The following provisions also apply to this AD:

(1) Alternative Methods of Compliance (AMOCs): The Manager, Standards Office, FAA, has the authority to approve AMOCs for this AD, if requested using the procedures found in 14 CFR 39.19. Send information to ATTN: Doug Rudolph, Aerospace Engineer, FAA, Small Airplane Directorate, 901 Locust, Room 301, Kansas City, Missouri 64106; telephone: (816) 329-4059; fax: (816) 329-4090; email: email: doug.rudolph@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, a federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(h) Related Information

Refer to MCAI European Aviation Safety Agency (EASA) AD No.: 2015-0063, dated April 22, 2015, for related information. The MCAI can be found in the AD docket on the Internet at: http://www.regulations.gov/#!documentDetail;D=FAA-2015-1744-0002.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) British Aerospace Regional Aircraft British Aerospace Jetstream Series 3100 & 3200 Service Bulletin 57-JA140140, Original Issue, dated: June 26, 2014.

(ii) Reserved.

(3) For British Aerospace Regional Aircraft service information identified in this AD, contact BAE Systems (Operations) Limited, Customer Information Department, Prestwick International Airport, Ayrshire, KA9 2RW, Scotland, United Kingdom; telephone: +44 1292 675207; fax: +44 1292 675704; email: RApublications@baesystems.com; Internet: http://www.baesystems.com/Businesses/RegionalAircraft/.

(4) You may view this service information at the FAA, Small Airplane Directorate, 901 Locust, Kansas City, Missouri 64106. For information on the availability of this material at the FAA, call (816) 329-4148. In addition, you can access this service information on the Internet at http://www.regulations.gov by searching for and locating Docket No. FAA-2015-1744.

(5) You may view this service information that is incorporated by reference at the National Archives and Records Administration (NARA). For information on the availability of this material at NARA, call 202-741-6030, or go to: http://www.archives.gov/federal-register/cfr/ibr-locations.html.

Issued in Kansas City, Missouri, on August 6, 2015.
Earl Lawrence,
Manager, Small Airplane Directorate, Aircraft Certification Service.

[FR Doc. 2015-19778 Filed 8-14-15; 8:45 am]

BILLING CODE 4910-13-P